DEPARTMENT OF ENERGY

Federal Energy Regulatory Commission

[Project No. 11886-002]

Western Land Investments, Inc.; Notice of Surrender of Preliminary Permit

September 26, 2002.

Take notice that Western Land Investments, Inc., permittee for the proposed River Side Project, has requested that its preliminary permit be terminated. The permit was issued on June 22, 2001, and would have expired on May 31, 2004. The project would have been located on the Snake River-Boulder Rapids Reach in Twin Falls and Gooding Counties, Idaho.

The permittee filed the request on August 5, 2002, and the preliminary permit for Project No. 11886 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-25016 Filed 10-1-02; 8:45 am]

BILLING CODE 6717-01-P